GENERAL SERVICES ADMINISTRATION

[Notice-ME-2021-01; Docket No. 2021-0002; Sequence No. 12]

Notice of GSA Live Webinar Regarding the Federal Government's Implementation of M-21-07 “Completing the Transition to Internet Protocol Version 6 (IPv6)”

AGENCY: Office of Government-wide Policy (OGP), General Services Administration (GSA).

ACTION: Virtual webinar meeting notice.

SUMMARY: GSA is hosting an IPv6 Summit to bring together the federal and industry communities for an engaging series of panels covering IPv6 implementation progress, opportunities, and best practices.

DATES: Wednesday, June 16th, 2021, at 12:00 p.m. EDT.

ADDRESSES: This is a virtual event and the call-in information will be made available upon registration. All attendees, including industry partners, must register for the ZoomGov event here: https://gsa.zoomgov.com/webinar/register/8616197996466/WN_DRAiO5uTQMCzpZ7iWx-zkA.

Members of the press, in addition to registering for this event, must also RSVP to press@gsa.gov by June 11th, 2021.

Alternatively, if license limits are reached during this event, this will be simulcasted on Facebook and YouTube.

FOR FURTHER INFORMATION CONTACT: Tom Santucci at thomas.santucci@gsa.gov or 202-230-4822.

SUPPLEMENTARY INFORMATION:

Background

The Office of Management and Budget (OMB) issued M-21-07, “Completing the Transition to Internet Protocol Version 6 (IPv6)” located at: https://www.whitehouse.gov/wp-content/uploads/2020/11/M-21-07.pdf.

In November 2020 to update guidance on the Federal government's operational deployment and use of IPv6. The memo communicates five categories of agency-level requirements for completing the deployment of IPv6 across all Federal information systems and services:

• Preparing for an IP6-only infrastructure

• Adhering to Federal IPv6 Acquisition Requirements

• Evolving the USGv6 Program

• Ensuring Adequate Security

• Government-wide Responsibilities

Format

The IPv6 Summit convenes leaders from the Federal Government and industry to discuss their experiences implementing IPv6. If you have questions you'd like to ask the panelists about IPv6, you can submit them via email to dccoi@gsa.gov by COB June 14, 2021.

Special Accommodations

For those who need accommodations, Zoom will have an option to turn on closed captioning. If additional accommodations are needed, please indicate this on the Zoom registration form.

Live Webinar Speakers (Subject to change without notice).

Hosted by:

• Tom Santucci, Director, IT Modernization, Office of Government-wide Policy, Host

• Carol Bales, Senior Policy Analyst (invited), Office of Management and Budget, Office of the Federal CIO

• Ron Bewtra, Chief Technology Officer, IPv6 Task Force Co-Chair, Department of Justice, Office of CIO

Keynote Speakers:

• Dr. Vint Cerf, Vice President and Chief Internet Evangelist, Google

• TBD, TBD, Federal CIO Council

Agenda
[Subject to change without notice]
Start time | Topic
12:00 p.m | Opening Remarks.
12:05 p.m | Opening Keynote: “Why IPv6 for US Government?”
12:15 PM | Panel #1: Federal Government Point of View on IPv6.
12:45 p.m | Panel #2: Security Lens.
1:15 p.m | Agency Story #1: Department of Defense.
1:25 p.m | Panel #3: Telecommunications.
1:55 p.m | Agency Story #2: Internet2.
2:00 p.m | Panel #4: Cloud Service Providers.
2:40 p.m | Agency Story #3: IRS.
2:45 p.m | Panel #5: System Integrators Support.
3:30 p.m | Closing Keynote: “Evolution of IP and World IPv6 Trends.”
3:55 p.m | Conclusion Remarks.
4:00 p.m | Meeting Concludes.

Thomas Santucci,
GSA IT Modernization Director, General Services Administration.

[FR Doc. 2021-10714 Filed 5-20-21; 8:45 am]

BILLING CODE 6820-14-P